DEPARTMENT OF THE INTERIOR

Bureau of Land Management

[CA-660-00-1220-HA]

Restrictions on Use of Public Lands and Facilities

AGENCY: Bureau of Land Management, Department of the Interior, Palm Springs-South Coast Field Office, Desert District, California.

ACTION: Notice—Temporary closure of routes to use by motorized vehicles except as specifically exempted; temporary closure of certain public lands to motorized-vehicle use except on approved routes.

SUMMARY: In compliance with Title 43 Code of Federal Regulations (CFR), Subpart 8364.1(c), notice is hereby given that the Bureau of Land Management (BLM) is temporarily closing public land portions of Palm Hills Drive, also known as Dunn Road, to motorized vehicles. The public land portions of Palm Hills Drive subject to the temporary closure occur within E½ Section 5, W½ Section 8, Sections 16, 29, 32, and 33, Township 5 South, Range 5 East, San Bernardino Meridian (SBM); and Sections 4, 8, 9, and N½ Section 16, Township 6 South, Range 5 East, SBM. The BLM is also temporarily closing all other motorized-vehicle routes of travel on these public lands and Section 30, Township 5 South, Range 5 East, SBM. The following motorized vehicles are exempt from this order: (1) Fire, military, emergency or law enforcement vehicles when used for emergency or patrol purposes; (2) vehicles whose use is expressly authorized by the Authorized Officer; and (3) vehicles used for official purposes by employees, agents, or designated representatives of the Federal Government or one of its contractors. These restrictions shall be in effect year-round from October 1, 2000, until completion of the Coachella Valley Multiple Species Habitat and Natural Communities Conservation Plan which addresses motorized-vehicle use on the subject public lands. The designation criteria at 43 CFR 8342.1 were applied in establishing this temporary closure order. The order to temporarily close Palm Hills Drive and other routes to motorized vehicles is based on protection of the resources of the public lands, promotion of the safety of all users of the public lands, and minimization of conflicts among various uses of the public lands. Non-motorized uses of Palm Hills Drive (e.g., hiking, bicycling, horseback riding) and other routes on public lands are not affected by this order. Trails developed primarily for non-motorized use are also not affected by the temporary closure.

SUPPLEMENTARY INFORMATION: Palm Hills Drive traverses the northern Santa Rosa Mountains from Cathedral City Cove on the north to State Highway 74 on the south, within and beyond an area annexed by the City of Palm Springs. The road was constructed by Mr. Michael Dunn and his partners beginning in 1966, and use of Palm Hills Drive was controlled by Mr. Dunn by maintaining two locked gates situated on private land. Those portions of Palm Hills Drive that cross public lands were constructed absent proper authorization from the BLM. The BLM filed a civil suit in Federal District Court in 1968 after negotiations to settle the unauthorized use failed. In 1975, a Final Judgement was entered between the BLM and Mr. Dunn resolving the dispute. The Court found that Mr. Dunn did not hold an easement by way of necessity across public lands at any time, and Mr. Dunn renounced any claim to any such easement. In 1997, the BLM acquired the private land upon which the two locked gates are located. The only other gate controlling access at this time is located on U.S. Forest Service lands near the opposite end of the road.

On March 18, 1998, the U.S. Fish and Wildlife Service (USFWS) declared through publication of a final rule that the distinct vertebrate population segment of bighorn sheep occupying the Peninsular Ranges of southern California is endangered pursuant to the Endangered Species Act of 1973, as amended. The current population of bighorn sheep in the United States, Peninsular Ranges approximates 335 animals distributed in eight known ewe groups (subpopulations) from the San Jacinto Mountains south to the Mexican border.

In Draft Recovery Plan for the Bighorn Sheep in the Peninsular Ranges (USFWS 1999), several studies are identified that link vehicle use with modification of bighorn sheep behavior (Jorgensen 1974, Leslie and Douglas 1980, Campbell and Remington 1981, Miller and Smith 1985). Miller and Smith (1985) documented that 25% of bighorn sheep (45 out of 180 observations) immediately reacted to a parked jeep or truck either by walking away or trotting away and returning to their original activity within 10 minutes, or by running away from the area and not returning to their original activity. Jorgensen (1974), Leslie and Douglas (1980), and Campbell and Remington (1981) demonstrated behavioral reactions or change in use patterns due to vehicle use and other human activity at water sources. Similarly, the mere presence of roads, both paved thoroughfares with heavy traffic and off road vehicle dirt roads, may be associated with altering bighorn sheep use patterns (Hicks 1978; Cunningham 1982; Rubin et al. 1998). Human activities on roads, such as hiking with or without dogs, biking, hunting, and traffic volume and speed, are likely factors that influence bighorn sheep use patterns near roads (MacArthur 1979, Miller and Smith 1985, Krausman and Leopold 1986, King and Workman 1986).

The temporary closure of Palm Hills Drive and other routes on the subject public lands is intended to minimize the potential for adverse changes in bighorn sheep behavior due to motorized-vehicle use. Any person who fails to comply with this order may be subject to the penalties provided in 43 CFR 8360.0-7.

FOR ADDITIONAL INFORMATION CONTACT: Jim Foote, BLM, Palm Springs-South Coast Field Office, P.O. Box 1260, North Palm Springs, CA 92258, telephone 760-251-4836.

Dated: August 21, 2000.
James G. Kenna,
Field Manager.

[FR Doc. 00-21864 Filed 8-25-00; 8:45 am]

BILLING CODE 4310-40-P